DEPARTMENT OF STATE

[Public Notice 4490]

Advisory Committee on International Economic Policy; Notice of Open Meeting

The Advisory Committee on International Economic Policy (ACIEP) will meet from 9 a.m. to 12 noon on Monday, November 17, 2003 in Room 1107, U.S. Department of State, 2201 C Street NW., Washington, DC 20520. The meeting will be hosted by Assistant Secretary of State for Economic and Business Affairs E. Anthony Wayne and Committee Chairman R. Michael Gadbaw.

The ACIEP serves the U.S. Government in a solely advisory capacity concerning issues and problems in international economic policy. Proposed topics for the meeting are status of trade negotiations, economic strategic planning, and subcommittee updates.

The public may attend this meeting as seating capacity allows. The media are welcome but discussions are off the record. Admittance to the Department of State building is by means of a pre-arranged clearance list. In order to be placed on this list, please provide your name, title, company or other affiliation if appropriate, social security number, date of birth, and citizenship to the Advisory Committee Executive Secretariat by fax (202) 647-5936 (Attention: Gwendolyn Jackson); telephone (202) 647-0847; or email (jacksongl@state.gov) by Nov. 13, 2003.

For further information about the meeting, please contact Eliza Koch, ACIEP Secretariat, Office of Economic Policy and Public Diplomacy, Bureau of Economic and Business Affairs, U.S. Department of State, Room 3526, 2201 C Street NW., Washington, DC 20520, by email (kochek@state.gov) or telephone (202) 647-1310.

Dated: October 27, 2003.
Eliza Koch,
ACIEP Secretariat, Office of Economic Policy and, Public Diplomacy, Bureau of Economic and Business Affairs, U.S. Department of State.

[FR Doc. 03-27421 Filed 10-30-03; 8:45 am]

BILLING CODE 4710-07-P